FEDERAL MARITIME COMMISSION

Ocean Transportation Intermediary License; Reissuance

Notice is hereby given that the following Ocean Transportation Intermediary licenses have been reissued by the Federal Maritime Commission pursuant to section 19 of the Shipping Act of 1984 (46 U.S.C. chapter 409) and the regulations of the Commission pertaining to the licensing of Ocean Transportation Intermediaries, 46 CFR part 515.

License No. | Name/address | Date reissued
001580F | Marco Forwarding Co., 8835 SW. 107th Avenue, Suite 367, Miami, FL 33176 | February 27, 2011.
010873N | Ameripack Services, Inc., 4696 NW. 74th Avenue, Miami, FL 33166 | April 27, 2011.

Sandra L. Kusumoto,
Director, Bureau of Certification and Licensing.

[FR Doc. 2011-12974 Filed 5-24-11; 8:45 am]

BILLING CODE 6730-01-P